DEPARTMENT OF LABOR

Employment and Training Administration

[TA-W-61,579; TA-W-61,579A]

Jockey International, Inc. Manufacturing Division Millen, GA; Including an Employee of Jockey International, Inc. Operating out of Greensboro, NC; Employed at Manufacturing Division Millen, GA; Amended Certification Regarding Eligibility To Apply for Worker Adjustment Assistance and Alternative Trade Adjustment Assistance; Findings of the Investigation

In accordance with section 223 of the Trade Act of 1974 (19 U.S.C. 2273), and section 246 of the Trade Act of 1974 (26 U.S.C. 2813), as amended, the Department of labor issued a Certification of Eligibility to Apply for Worker Adjustment Assistance and Alternative Trade Adjustment Assistance on June 15, 2007 applicable to workers of Jockey International, Inc., Manufacturing Division, Millen, Georgia. The notice was published in the Federal Register on June 28, 2007 (72 FR 33516).

At the request of the petitioner, the Department reviewed the certification for workers of the subject firm. New information shows that a worker separation has occurred involving an employee of the Millen, Georgia facility of Jockey International, Inc., paid and operating out of Greensboro, North Carolina. Mr. Harrison Thrasher provided safety services for the production of apparel cutting that is produced at the Millen, Georgia location of the subject firm.

Based on these findings, the Department is amending this certification to include an employee of the Greensboro, North Carolina office of Jockey International, Inc., located at the Millen, Georgia facility.

The intent of the Department's certification is to include all workers of Jockey International, Inc., Millen, Georgia, who were adversely affected by increased customer imports.

The amended notice applicable to TA-W-61,579 is hereby issued as follows:

All workers of Jockey International, Inc., Manufacturing Division, Millen, Georgia (TA-W-61,579), including an employee in support of Jockey International, Inc., Manufacturing Division, Millen, Georgia operating out of Greensboro, North Carolina (TA-W-61,579A), who became totally or partially separated from employment on March 22, 2006, through June 15, 2009, are eligible to apply for alternative trade adjustment assistance under Section 246 of the Trade Act of 1974.

Signed at Washington, DC, this 10th day of April 2007.
Richard Church,
Certifying Officer, Division of Trade Adjustment Assistance.

[FR Doc. E8-8247 Filed 4-16-08; 8:45 am]

BILLING CODE 4510-FN-P